ENVIRONMENTAL PROTECTION AGENCY

[EPA-HQ-OPP-2023-0356; FRL-11360-01-OCSPP]

Issuance of Experimental Use Permits

AGENCY: Environmental Protection Agency (EPA).

ACTION: Notice.

SUMMARY: EPA has granted experimental use permits (EUP) to the following pesticide applicants. An EUP permits use of a pesticide for experimental or research purposes only in accordance with the limitations in the permit.

FOR FURTHER INFORMATION CONTACT: Madison Le, Biopesticides and Pollution Prevention Division (7511M), Office of Pesticide Programs, Environmental Protection Agency, 1200 Pennsylvania Ave NW, Washington, DC 20460-0001; main telephone number: (202) 566-1400; email address: BPPDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2023-0356 is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-1400. Please review the visitor instructions and additional information about the docket available at https://www.epa.gov/dockets.

II. EUP

EPA has issued the following EUPs:

1. 8917-EUP-3. EPA-HQ-OPP-2020-0233. Issuance. J.R. Simplot Company, 5369 W Irving Street, Boise, ID 83706. This EUP allows the use of 0.041 pounds of the plant-incorporated protectant (PIP) protein BLB2, 0.21 pounds of the PIP protein AMR3, 0.21 pounds of the PIP protein VNT1, and 0.17 pounds of the PIP Potato virus Y (PVY) siRNA on 165 acres of potato to evaluate the control of potato late blight disease and PVY. The program is authorized only in the States of Arizona, Colorado, Idaho, Michigan, Minnesota, North Dakota, Pennsylvania, Texas, Utah, Washington, and Wisconsin. The EUP is effective from March 15, 2023, to April 1, 2024.

2. 524-EUP-117. EPA-HQ-OPP-2022-0036. Issuance. Bayer CropScience LP 800 North Lindbergh Blvd. St. Louis, Missouri 63167. This EUP allows the use of 0.93 grams of the plant-incorporated protectant (PIP), GA20ox_SUP miRNA and the genetic material necessary for is production on 10,000 acres of corn to evaluate MON 94804 short stature maize, stack combinations with registered insect-protected corn, and controls. The program is authorized only in the States of Alabama, Arkansas, California, Colorado, Florida, Georgia, Hawaii, Iowa, Illinois, Kansas, Louisiana, Michigan, Minnesota, Montana, Missouri, North Carolina, North Dakota, Nebraska, Ohio, Pennsylvania, South Carolina, South Dakota, Tennessee, Texas, Washington, Wisconsin, and the Territory of Puerto Rico. The EUP is effective from September 20, 2022, to February 28, 2025.

3. 94614-EUP-1. EPA-HQ-OPP-2021-0270. Issuance. GreenLight Biosciences, Inc. 200 Boston Ave., Suite 1000, Medford, MA 02155. This EUP allows the use of 8.504 pounds of the active ingredient, Ledprona (CAS No. 2433753-68-3) double-stranded RNA on 318 acres of potato to evaluate the control of Colorado Potato Beetle. The program is authorized only in the States of Idaho, Maine, Michigan, Minnesota, New York, Noth Dakota, Oregon, Virginia, Wisconsin, and Washington. The EUP is effective from May 4, 2023, to April 30, 2025.

Authority: 7 U.S.C. 136 et seq.

Dated: November 15, 2023.
Madison Le,
Director, Biopesticides and Pollution Prevention Division, Office of Pesticide Programs.

[FR Doc. 2023-25575 Filed 11-17-23; 8:45 am]

BILLING CODE 6560-50-P